DEPARTMENT OF TRANSPORTATION

Federal Aviation Administration

14 CFR Part 39

[Docket No. FAA-2015-0909; Directorate Identifier 96-ANE-24-AD]

RIN 2120-AA64

Airworthiness Directives; AlliedSignal Inc. and Rajay Inc. Oil Scavenge Pumps

AGENCY: Federal Aviation Administration (FAA), DOT.

ACTION: Proposed rule; withdrawal.

SUMMARY: The FAA is withdrawing a notice of proposed rulemaking (NPRM). The NPRM proposed a new airworthiness directive (AD) that had applied to AlliedSignal oil scavenge pumps, part numbers (P/Ns) 101633-01 and -02 and Rajay Inc. oil scavenge pumps, P/Ns 1025-1 and -2 installed on Continental Motors, Inc. (CMI) IO-470 and TSIO-520 reciprocating engines and on Lycoming Engines, Inc., (Lycoming) IO-360, IO-540, and O-360 reciprocating engines. We have found no service difficulties with these model oil scavenge pumps when installed on the affected engines. Accordingly, we withdraw the proposed rule.

DATES: As of June 19, 2015, the proposed rule published February 20, 1997 at 62 FR 7730 is withdrawn.

FOR FURTHER INFORMATION CONTACT: Richard McCauley, Aerospace Engineer, Seattle Aircraft Certification Office, FAA, Transport Directorate, 1601 Lind Avenue SW., Renton, WA 98055-4056; phone: 425-917-6502; fax: 425-917-6590; email: richard.mccauley@faa.gov.

SUPPLEMENTARY INFORMATION: The FAA proposed to amend 14 CFR part 39 with a proposed AD (62 FR 7730, February 20, 1997). The proposed AD had applied to AlliedSignal oil scavenge pumps,P/Ns 101633-01 and -02 and Rajay Inc. oil scavenge pumps, P/Ns 1025-1 and -2 installed on CMI IO-470 and TSIO-520 reciprocating engines and on Lycoming IO-360, IO-540, and O-360 reciprocating engines. The NPRM proposed to require initial and repetitive inspections of the oil scavenge pump for the security of the snap ring installation, snap ring and washer wear, and shaft groove wear, and their replacement, if necessary, with serviceable parts. The proposed action was prompted by reports of severe wear on the end plate of the oil scavenge pump. The proposed actions were intended to prevent oil scavenge pump snap ring failure causing severe wear on the pump end plate, which could result in loss of engine oil and subsequent engine shutdown.

Since we issued the NPRM (62 FR 7730, February 20, 1997), additional information became available after the public comment period closed on April 21, 1997.

Upon further consideration, we hereby withdraw the proposed rule for the following reason:

• We reviewed service difficulty reports, AD databases, and airplane manufacturer's data and found no unsafe condition in the last 19 years of service history associated with these oil scavenge pumps installed on the affected engines.

Withdrawal of the NPRM (62 FR 7730, February 20, 1997) constitutes only such action, and does not preclude the agency from issuing another notice in the future, nor does it commit the agency to any course of action in the future.

Since this action only withdraws a notice of proposed rulemaking, it is neither a proposed nor a final rule. Therefore, Executive Order 12866, the Regulatory Flexibility Act, or DOT Regulatory Policies and Procedures (44 FR 11034, February 26, 1979) do not cover this withdrawal.

List of Subjects in 14 CFR Part 39

Air transportation, Aircraft, Aviation safety, Incorporation by reference, Safety.

The Withdrawal

Accordingly, the notice of proposed rulemaking, Docket No. FAA-2015-0909; Directorate Identifier 96-ANE-24-AD, published in the Federal Register on February 20, 1997 (62 FR 7730), is withdrawn.

Issued in Burlington, Massachusetts, on June 10, 2015.
Ann C. Mollica,
Acting Directorate Manager, Engine & Propeller Directorate, Aircraft Certification Service.

[FR Doc. 2015-14993 Filed 6-18-15; 8:45 am]

BILLING CODE 4910-13-P